DEPARTMENT OF ENERGY

Federal Energy Regulatory Commission

[Docket No. OR02-6-000]

Sinclair Oil Corporation, 550 East South Temple, Salt Lake City, UT 84102, Complainant, v. Rocky Mountain Pipeline System LLC, 555 Seventeenth Street, Denver, CO 80202 and BP Pipelines (North America), Inc., 801 Warrenville Road, Suite 700, Lisle, IL 60532, Respondents; Notice of Complaint

April 17, 2002.

Take notice that on April 15, 2002, Sinclair Oil Corporation (Sinclair) tendered for filing a Complaint against Rocky Mountain Pipeline System LLC (Rocky Mountain) and BP Pipelines (North America), Inc. (BP Pipelines).

Sinclair states in its Complaint that it purchases crude oil shipped on the Western Corridor pipeline from International Boundary, Montana to Casper, Wyoming. Sinclair alleges that BP Pipelines has denied Sinclair access to the Western Corridor pipeline and has charged unjust and unreasonable and unduly discriminatory and unduly preferential rates for pipeline transportation services on the Western Corridor line and has therefore violated the Interstate Commerce Act. Sinclair further alleges that Rocky Mountain has violated and is continuing to violate the Interstate Commerce Act by charging unjust and unreasonable and unduly discriminatory and unduly preferential rates for pipeline transportation services on the Western Corridor line.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 6, 2002. Protests will be considered by the Commission in determining the appropriate action to be taken, but will not serve to make protestants parties to the proceeding. Any person wishing to become a party must file a motion to intervene. Answers to the complaint shall also be due on or before May 6, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Magalie R. Salas,
Secretary.

[FR Doc. 02-9902 Filed 4-22-02; 8:45 am]

BILLING CODE 6717-01-P